DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services as amended most recently at 67 FR 45136, July 8, 2002 is amended to: Abolish the Office of Evaluation, Scientific Analysis, and Synthesis (OESAS); replace the functional statement of two divisions of the Center for Substance Abuse Treatment (CSAT), the Division of State and Community Assistance and the Division of Services Improvement. The changes are to update and realign CSAT organizational structure to strengthen CSAT's programs and allow CSAT to more effectively use its resources. The changes are as follows:

Section M.20, Functions is amended as follows:

Under the heading, Office of Evaluation, Scientific Analysis, and Synthesis (MTC), delete the functional statement.

Under the heading, Division of Services Improvement (MTB), delete the functional statement and substitute the following functional statement:

(1) Develops, plans, implements, and monitors national treatment capacity expansion and knowledge adoption program designed to improve treatment services throughout the United States, including services in other systems of care; (2) provides leadership and guidance to CSAT on the organization and financing of services for substance abuse treatment, HIPAA, and adoption of evidenced-based practices; (3) collaborates on the development of Guidances for Applications (GFAs) and Requests for Contracts for the national treatment capacity expansion and services improvement agenda; (4) monitors grants, cooperative agreements, contracts, interagency agreements, and memoranda of understanding for treatment capacity expansion, knowledge adoption, and services improvement; (5) supports the development and testing of performance measures for public and private managed care plans and other systems of care; (6) collects, analyzes, and disseminates data and information pertaining to public and private financing and expenditures for treatment services; (7) identifies the need for, develops, and provides technical assistance to grantees, other service providers and systems of care, and others on adoption of evidence-based practices, capacity expansion, and organization and financing of services; (8) establishes and maintains collaborative relationships with other Federal, State, and local governmental agencies, national organizations, and constituency groups; (9) maintains internal expertise and collaborates with national experts on the science-to-services agenda; (10) develops funding levels for Division programs and activities; (11) provides guidance and oversight of training services for treatment professionals; and (12) provides leadership on workforce development activities.

Under the heading, Division of State and Community Assistance (MTE), delete the functional statement and substitute the following functional statement:

(1) Administers the Substance Abuse Prevention and Treatment (SAPT) Block Grant Program, including oversight and approval of Block Grant applications and maintenance of effort (MOE) issues; (2) administers the Substance Abuse Performance Partnership Grant (PPG), negotiating PPG agreements with States; (3) monitors and ensures State compliance with legislative and regulatory provisions which apply to PPG funds at State and provider levels; (4) provides guidance and technical assistance to States in preparation of State substance abuse plans; (5) conducts performance reviews of State agencies and treatment programs; (6) works closely with data and evaluation to assure proper reporting and data integrity; (7) administers the State Incentive Grant program for co-occurring disorders and the TCE grant program for co-occurring disorders; (8) works collaboratively with the Division of Services Improvement on performance measurement, GPRA, and HIPAA issues; and (9) serves as focus for State and local data infrastructure development issues.

Section M.40, Delegations of Authority: All delegations and redelegations of authority to officers and employees of SAMHSA which were in effect immediately prior to the effective date of this reorganization shall continue in them.

These organizational changes are effective August 12, 2002.

Dated: September 5, 2002.
Charles Curie,
Administrator.

[FR Doc. 02-23150 Filed 9-11-02; 8:45 am]

BILLING CODE 4160-01-M